ENVIRONMENTAL PROTECTION AGENCY

[ER-FRL-6691-8]

Environmental Impacts Statements; Notice of Availability

Responsible Agency: Office of Federal Activities, General Information (202) 564-7167 or http://www.epa.gov/compliance/nepa/.

Weekly receipt of Environmental Impact Statements

Filed 10/01/2007 through 10/05/2007

Pursuant to 40 CFR 1506.9

EIS No. 20070413, Final EIS, AFS, MT, Little Belt-Castle-North Half Crazy Mountains Travel Management Plan, To Change the Management of Motorized and Non-motorized Travel on the Road, Trails, and Areas within, Belt Creek, Judith, Musselshell, and White Sulphur Springs Ranger Districts, Lewis and Clark National Forest, Cascade, Judith Basin, Meagher, Wheatland, Sweetgrass and Park Counties, MT. Wait Period Ends: 11/13/2007. Contact: Dick Schwecke 406-791-7700

EIS No. 20070414, Final EIS, AFS, MT, Rocky Mountain Ranger District Travel Management Plan, Proposes to Change the Management of Motorized and Non-Motorized Travel, Lewis and Clark National Forest, Glacier, Pondera, Teton and Lewis and Clark Counties, MT. Wait Period Ends: 11/13/2007. Contact: Dick Schwecke 406-791-7700

EIS No. 20070415, Final EIS, AFS, UT, Ogden Ranger District Travel Plan Revision, To Present Additional Analysis for Six Alternatives, Wasatch-Cache National Forest, Ogden Ranger District, Box Elder, Cache, Morgan, Weber and Rich Counties, UT. Wait Period Ends: 11/13/2007. Contact: Rick Vallejos 801-625-5112

EIS No. 20070416, Draft EIS, BLM, WY, Moxa Arch Area Infill Gas Development Project, Drill, Extract, Remove, and Market Natural Gas Under Valid Existing Oil and Gas Leases, Approval, Right-of-Way Grants and U.S. Army COE Section 404 Permit (s), Lincoln, Uinta and Sweetwater Counties, WY. Comment Period Ends: 12/11/2007. Contact: Michele Easley 307-828-4524

EIS No. 20070417, Final EIS, FHW, DC, 11th Street Bridges Project, Anacostia Freeway I-295/DC 295, to the Southeast/Southwest Freeway (I-695) Improvement, Funding, NPDES Permit , U.S. Army COE section 10 and 404 Permits, Washington, DC, Wait Period Ends: 11/13/2007. Contact: Bart Clark 202-671-4710

EIS No. 20070418, Final EIS, NPS, NC, North Shore Road, Great Smoky Mountains National Park, General Management Plan, Implementation, Fontana Dam, Swain County, NC. Wait Period Ends: 11/13/2007. Contact: Imelda Wegwerth 865-436-1302

EIS No. 20070419, Draft EIS, BLM, UT, Kanab Field Office Resource Management Plan, Implementation, Portions of Kane and Garfield Counties, UT. Comment Period Ends: 01/10/2008. Contact: Keith Rigtrap 435-644-4622

EIS No. 20070420, Draft EIS, SFW, CA, Agua Caliente Tribal Habitat Conservation Plan (THCP), Application for an Incidental Take Permit for 24 Covered Species, Coachella Valley, Riverside County, CA. Comment Period Ends: 11/26/2007. Contact: Jim Bartel 760-431-9440

EIS No. 20070421, Draft EIS, BLM, NV, Toqoup Energy Project, Construction and Operation a 750 Megawatt Coal-Fired Generation Facility, Right-of-Way Grant, Lincoln and Clark Counties, NV. Comment Period Ends: 12/11/2007. Contact: Brenda Linnell 775-289-1808

EIS No. 20070422, Draft EIS, FHW, TN, US 127/ TN 28 Improvements, from 1-40 at Crossville to TN 62 at Clarkrange, Funding, U.S. Army COE Section 10 and 404 Permits, Cumberland and Fentress Counties, TN. Comment Period Ends: 11/26/2007. Contact: Leigh Ann Tribble 615-781-5760

EIS No. 20070423, Final EIS, AFS, 00, Great Basin Creek South Rangeland Management Projects, Management of 12 Livestock Grazing Allotments, Bridgeport Ranger District, Humboldt-Toiyabe National Forest, Lyon and Mineral Counties, NV and Mono County, CA. Wait Period Ends: 11/13/2007. Contact: Amy Baumer 760-932-7070

EIS No. 20070424, Final EIS, BPA, WA, Port Angeles—Juan de Fuca Transmission Project, Construct a 550-Megawatt Direct Current Cable from Victoria, British Columbia, across the Strait of Juan de Fuca to Port Angeles, Presidential Permit, Clallam County, WA. Wait Period Ends: 11/13/2007. Contact: Stacy Mason 503-230f-5455

EIS No. 20070425, Draft EIS, COE, 00, Wolf Dam/Lake Cumberland Project, Emergency Measures in Response to Seepage, Mississippi River, South Central Kentucky and Central Tennessee. Comment Period Ends: 11/26/2007. Contact: Chip Hall 615-736-7666

EIS No. 20070426, Draft EIS, FHW, CA, CA-76 Corridor Project, Transportation Improvements from Melrose to South Mission Highway, San Diego County, CA, Comment Period Ends: 11/26/2007. Contact: Kelly Finn 619-688-0229

EIS No. 20070427, Final EIS, AFS, CA, SPI Road Project, Construction of an Access Road Across National Forest Land, Special Use Permit, Six Rivers National Forest, Lower Trinity Ranger District, Trinity County, CA. Wait Period Ends: 11/13/2007. Contact: Linda West 707-441-3561

EIS No. 20070428, Second Draft Supplement, DOE, NV, Geologic Repository for the Disposal of Spent Nuclear Fuel and High-Level Radioactive Waste at Yucca Mountain, Nye County, Nevada—Nevada Rail Transportation Corridor (DOE/EIS-0250F-S2D) and Rail Alignment for the Construction and Operation of a Railroad in Nevada to a Geologic Repository (DOE/EIS-0369D) at Yucca Mountain, Nye County, NV. Comment Period Ends: 01/10/2008. Contact: M. Lee Bishop 1-800-967-3477

EIS No. 20070429, Second Draft EIS (Tiering), DOE, NV, Geologic Repository for the Disposal of Spent Nuclear Fuel and High-Level Radioactive Waste, Construction, Operation, Monitoring and Eventually Closing a Geologic Repository (DOE/EIS-0250F-S1D) at Yucca Mountain, Nye County, NV, Comment Period Ends: 01/10/2008. Contact: Dr. Jane Summerson 1-800-967-3477

Amended Notices

EIS No. 20070366, Draft EIS, OSM, 00, Excess Spoil Minimization Stream Buffer Zones, Proposed Revisions to the Permanent Program Regulations Implementing the Surface Mining Control and Reclamation Act of 1977 Concerning the Creation and Disposal of Excess Spoil and Coal Mine Waste and Stream Buffer Zones, Permit Application, Comment Period Ends: 11/23/2007. Contact: David Hartos 412-937-2909. Revision of FR Notice Published 08/24/2007: Extending Comment Period from 10/15/2007 to 11/23/2007

Dated: October 9, 2007.
Ken Mittelholtz,
Environmental Protection Specialist, Office of Federal Activities.

[FR Doc. E7-20185 Filed 10-11-07; 8:45 am]

BILLING CODE 6560-50-P